NUCLEAR REGULATORY COMMISSION

10 CFR Part 72

[NRC-2024-0216]

RIN 3150-AL25

List of Approved Spent Fuel Storage Casks: NAC International, Inc., MAGNASTOR® Storage System, Certificate of Compliance No. 1031, Amendment No. 15

AGENCY: Nuclear Regulatory Commission.

ACTION: Direct final rule; confirmation of effective date.

SUMMARY: The U.S. Nuclear Regulatory Commission (NRC) is confirming the effective date of June 3, 2025, for the direct final rule that was published in the Federal Register on March 20, 2025. This direct final rule amended the NAC International, Inc., MAGNASTOR® Storage System listing within the “List of approved spent fuel storage casks” to include Amendment No. 15 to Certificate of Compliance No. 1031.

DATES: Effective date: The effective date of June 3, 2025, for the direct final rule published March 20, 2025 (90 FR 13047), is confirmed.

ADDRESSES: Please refer to Docket ID NRC-2024-0216 when contacting the NRC about the availability of information for this action. You may obtain publicly available information related to this action by any of the following methods:

• Federal Rulemaking Website: Go to https://www.regulations.gov and search for Docket ID NRC-2024-0216. Address questions about NRC dockets to Helen Chang; telephone: 301-415-3228; email: Helen.Chang@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The revision of Certificate of Compliance No. 1031, the associated changes to the technical specifications, and the final safety evaluation report are available in ADAMS under Accession No. ML25112A096. The public comment is available in ADAMS under Accession No. ML25090A040.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Irene Wu, Office of Nuclear Material Safety and Safeguards, telephone: 301-415-1951, email: Irene.Wu@nrc.gov and Nishka Devaser, Office of Nuclear Material Safety and Safeguards, telephone: 301-415-5196, email: Nishka.Devaser@nrc.gov. Both are staff of the U.S. Nuclear Regulatory Commission, Washington, DC 20555-0001.

SUPPLEMENTARY INFORMATION: On March 20, 2025 (90 FR 13047), the NRC published a direct final rule amending its regulations in part 72 of title 10 of the Code of Federal Regulations to revise the NAC International, Inc. MAGNASTOR® Storage System listing within the “List of approved spent fuel storage casks” to include Amendment No. 15. Amendment No. 15 revises the certificate of compliance to add a new variation of the Lightweight MAGNASTOR® Transfer Cask design, add a new concrete cask design, increase the maximum system heat load capacity, add new loading patterns, add a thermal shunt for short loading patterns, remove the 5 percent burnup penalty, increase Passive MAGNASTOR® Transfer Cask heat load, add two new pressurized-water reactor fuel types to support future operations, modify the transportable storage canister lid to allow additional clearance near the top center of the basket, and correct and clarify principal design criteria, operating procedures, and the acceptance criteria and maintenance program. This amendment also makes corresponding revisions to previously approved drawings for the concrete cask, Technical Specifications Appendix A and Appendix B, specific chapters of the final safety analysis report, and several license drawings.

In the direct final rule, the NRC stated that if no significant adverse comments were received, the direct final rule would become effective on June 3, 2025. The NRC received and docketed one comment on the companion proposed rule (90 FR 13103; March 20, 2025). An electronic copy of the comment can be obtained from the Federal Rulemaking website at https://www.regulations.gov under Docket ID NRC-2024-0216 and is also available in ADAMS under Accession No. ML25090A040. Specifically, the comment concerned the issue of the casks being able to withstand high temperatures and the issue of preventing leaks occurring at the site. The NRC evaluated the comment against the criteria described in the direct final rule and determined that the public comment received on this action did not warrant any additions or changes to the final rule, the certificate of compliance, or the accompanying technical specifications. The NRC is not making substantive changes to the rule; it is apparent that the rule is effective and acceptable as proposed, without the need for a substantive change or addition. The comment did not raise a relevant issue that was not previously addressed or considered by the NRC, and the comment did not cause the NRC to either (1) reevaluate or reconsider its position, or (2) conduct additional analyses. The NRC has determined that the comment was not a significant adverse comment and therefore, this direct final rule will become effective as scheduled.

Dated: April 28, 2025.
For the Nuclear Regulatory Commission.
Ronald Raunikar,
Acting Chief, Regulatory Analysis and Rulemaking Support Branch, Division of Rulemaking, Environmental, and Financial Support, Office of Nuclear Material Safety and Safeguards.

[FR Doc. 2025-07602 Filed 5-1-25; 8:45 am]

BILLING CODE 7590-01-P